DEPARTMENT OF THE INTERIOR

National Park Service

Denali National Park Subsistence Resource Commission Meeting

AGENCY: National Park Service, Interior.

ACTION: Announcement of Denali National Park Subsistence Resource Commission meeting.

SUMMARY: Notice is hereby given in accordance with the Federal Advisory Committee Act that a meeting of the Denali National Park Subsistence Resource Commission will be held in Kantishna, Alaska. The purpose of the meeting will be to review Federal Subsistence Board actions and continue work on National Park Service (NPS) subsistence hunting program recommendations including other related subsistence management issues. The meeting will be open to the public. Any person may file with the Commission a written statement concerning the matters to be discussed.

The Subsistence Resource Commission is authorized under title VIII, section 808, of the Alaska National Interest Lands Conservation Act, Public Law 96-487, and operates in accordance with the provisions of the Federal Advisory Committee Act.

DATES: The meeting will be held on Friday, August 27, 2004, from 9 a.m. to 5 p.m. at the Kantishna Road House, in Kantishna, Alaska.

FOR FURTHER INFORMATION CONTACT: Hollis Twitchell, Subsistence and Cultural Resources Manager at (907) 683-9544 or (907) 455-0673.

SUPPLEMENTARY INFORMATION: Notice of this meeting will be published in local newspapers and announced on local radio stations prior to the meeting dates. Locations and dates may need to be changed based on weather or local circumstances.

The following agenda items will be discussed:

1. Call to order.

2. Roll call and confirmation of quorum.

3. Superintendent's welcome and introductions.

4. Approval of minutes from last Commission meeting.

5. Additions and corrections to draft agenda.

6. Public and other agency comments.

7. Old Business.

a. Denali Backcountry Management Plan.

b. Predator-Prey Research Hunting Program Recommendation.

c. North Access and Facilities Studies.

d. ATV Issues.

8. New Business.

a. Federal Subsistence Board Actions on Wildlife Proposals.

b. Alaska Board of Game Wildlife Actions.

c. NPS Wildlife Status Reports and Survey Updates.

d. Salmon Surveys.

e. Community Harvest Assessments.

f. NPS Staff Reports.

9. Public and other agency comments.

10. Set time and place of next Denali SRC meeting.

11. Adjournment.

Draft minutes of the meeting will be available for public inspection approximately six weeks after the meeting from: Superintendent, Denali National Park and Preserve, P.O. Box 9, Denali Park, AK 99755.

Dated: June 3, 2004.
Kayci Cook Collins,
Alaska Desk Officer.

[FR Doc. 04-15147 Filed 7-2-04; 8:45 am]

BILLING CODE 4312-H7-P